ENVIRONMENTAL PROTECTION AGENCY

40 CFR Part 86

[FRL-7544-1]

RIN 2060-AJ77

Control of Air Pollution From New Motor Vehicles and New Motor Vehicle Engines; Modification of Federal On-Board Diagnostic Regulations for: Light-Duty Vehicles, Light-Duty Trucks, Medium Duty Passenger Vehicles, Complete Heavy Duty Vehicles and Engines Intended for Use in Heavy Duty Vehicles Weighing 14,000 Pounds GVWR or Less; Extension of Acceptance of California OBD II Requirements

AGENCY: Environmental Protection Agency (EPA).

ACTION: Partial withdrawal of direct final rule.

SUMMARY: Due to receipt of adverse comments, EPA is withdrawing two specific regulatory revisions included in the direct final rule that was published in the Federal Register on June 17, 2003 (68 FR 35792) related to EPA's On-board Diagnostics (OBD) regulations. EPA published both the direct final rule and a concurrent notice of proposed rulemaking to amend and revise certain provisions of the Federal OBD regulations for purposes of updating the acceptable version of the California OBD II regulations, that allows compliance with California OBD II regulations to satisfy Federal OBD regulations, and to update the incorporation by reference of standardized practices developed by the Society of Automotive Engineers (SAE) and the International Organization for Standardization (ISO) to incorporate recently published versions. The only provisions being withdrawn are the provisions that prohibit the use SAE J1939 beyond the 2007 model year.

DATES: 40 CFR 86.005-17(h)(3) and 86.1806-05(h)(3) of the direct final rule published at 68 FR 35792, (June 17, 2003) are withdrawn as of August 14, 2003.

ADDRESSES: All comments and materials relevant to today's action are contained in Public Docket No. OAR-2003-0080 at the following address: U.S. Environmental Protection Agency (EPA), EPA Docket Center (EPA/DC), Air and Radiation Docket, Mail Code 6102T, 1200 Pennsylvania Avenue, NW., Washington, DC 20460.

Docket: Materials relevant to this rulemaking are contained in Public Docket Number OAR-2003-0080 at the following address: EPA Docket Center (EPA/DC), Public Reading Room, Room B102, EPA West Building, 1301 Constitution Avenue, NW., Washington DC. The EPA Docket Center Public Reading Room is open from 8:30 a.m. to 4:30 p.m., Monday through Friday, except on government holidays. You can reach the Reading Room by telephone at (202) 566-1742, and by facsimile at (202) 566-1741. The telephone number for the Air Docket is (202) 566-1742. You may be charged a reasonable fee for photocopying docket materials, as provided in 40 CFR part 2.

FOR FURTHER INFORMATION CONTACT: Arvon L. Mitcham, Certification and Compliance Division, U.S. Environmental Protection Agency, 2000 Traverwood, Ann Arbor, Michigan 48105, Telephone 734-214-4522, or Internet e-mail at “mitcham.arvon@epa.gov.”

SUPPLEMENTARY INFORMATION: We stated in the direct final rule published at 68 FR 35792 (June 17, 2003) that if we received adverse comment on the direct final rule by July 17, 2003, we would publish a timely withdrawal in the Federal Register. We have received adverse comments on the amendments to the following sections: 40 CFR 86.005-17, subsection (h), paragraph (3), and § 86.1806-05, subsection (h), paragraph (3). We received comments from the Engine Manufacturers Association (EMA) that the direct final rule does not extend the allowance to use the heavy-duty communication protocol, or SAE J1939, beyond the 2007 model year for vehicles that are not optionally certified to CARB's 1968.2 OBD II requirements. They commented that the direct final rule requires that 2008 and later model year heavy-duty engines and vehicles under 14,000 lbs. GVWR that are certified to the Federal OBD technical monitoring requirements must use the ISO 15765-4.3 communication protocol. EMA commented that this is not consistent with CARB's requirements, nor is it consistent with the existing communication protocols developed for the unique operational characteristics of heavy-duty vehicles. We will address this adverse comment more fully in a forthcoming final rulemaking based on the concurrent notice of proposed rulemaking published on June 17, 2003 (68 FR 35830).

In addition, EPA received comments from the Alliance of Automobile Manufacturers and the Association of International Automobile Manufacturers requesting clarification of certain aspects of the direct final rule. These comments did not request withdrawal of the rule, and EPA does not consider these comments adverse. We are not withdrawing any sections of the direct final rule based on these comments. As noted above, we will soon issue a final rule based on the concurrent notice of proposed rulemaking and we will address these comments as appropriate at that time.

List of Subjects in 40 CFR Part 86

Environmental protection, Incorporation by reference, Administrative practice and procedure, Motor vehicle pollution, On-board diagnostics.

Dated: August 6, 2003.
Robert Brenner,
Acting Assistant Administrator, for Office of Air and Radiation.

[FR Doc. 03-20638 Filed 8-13-03; 8:45 am]

BILLING CODE 6560-50-P